COMMITTEE FOR PURCHASE FROM PEOPLE WHO ARE BLIND OR SEVERELY DISABLED

Procurement List; Addition and Deletions

AGENCY: Committee for Purchase From People Who Are Blind or Severely Disabled.

ACTION: Addition to and deletions from the Procurement List.

SUMMARY: This action adds a service to the Procurement List that will be furnished by nonprofit agencies employing persons who are blind or have other severe disabilities, and deletes products and services from the Procurement List previously furnished by such agencies.

DATES: Date added to and deleted from the Procurement List: July 7, 2019.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 4/26/2019, the Committee for Purchase From People Who Are Blind or Severely Disabled published notice of proposed additions to the Procurement List.

After consideration of the material presented to it concerning capability of qualified nonprofit agencies to provide the service and impact of the addition on the current or most recent contractors, the Committee has determined that the service listed below is suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the service to the Government.

2. The action will result in authorizing small entities to furnish the service to the Government.

3. There are no known regulatory alternatives which would accomplish the objectives of the Javits-Wagner-O'Day Act (41 U.S.C. 8501-8506) in connection with the service proposed for addition to the Procurement List.

End of Certification

Accordingly, the following service is added to the Procurement List:

Service

Service Type: Messenger Service

Mandatory for: U.S. Customs and Border Protection, Area Port St. Thomas, St. Thomas, VI

Mandatory Source of Supply: The Corporate Source, Inc., Garden City, NY

Contracting Activity: U.S. CUSTOMS AND BORDER PROTECTION, BORDER ENFORCEMENT CTR DIV

Deletions

On 5/3/2019, the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSNs—Product Names:

7510-01-545-4433—DAYMAX System, 2018, Calendar Pad, Type II

7510-01-545-3769—DAYMAX System, 2018, Calendar Pad, Type I

Mandatory Source of Supply: Anthony Wayne Rehabilitation Ctr for Handicapped and Blind, Inc., Fort Wayne, IN

Contracting Activity: GSA/FAS ADMIN SVCS ACQUISITION BR(2, NEW YORK, NY

Services

Service Type: Janitorial/Custodial

Mandatory for: U.S. Army Reserve Center: 1605 Four Mile Drive, Lycoming Memorial, Williamsport, PA

Mandatory Source of Supply: Hope Enterprises, Inc., Williamsport, PA

Contracting Activity: DEPT OF THE ARMY, W40M RHCO-ATLANTIC USAHCA

Service Type: Custodial Services

Mandatory for: Fitness Center, Building 1363, Ellington Field, Houston, TX

Mandatory Source of Supply: On Our Own Services, Inc., Houston, TX

Contracting Activity: DEPT OF THE ARMY, W7N2 USPFO ACTIVITY TX ARNG

Service Type: Janitorial Service

Mandatory for: ICE, VA Hudson Valley HealthCare System Campus, Bldg 7, Floors 1, 2, 3 & Basement, Castle Point, NY

Mandatory Source of Supply: Access: Supports for Living Inc., Middletown, NY

Contracting Activity: U.S. IMMIGRATION AND CUSTOMS ENFORCEMENT, COMPLIANCE&REMOVALS

Service Type: Operation of Support Services

Mandatory for: National Advocacy Center, Columbia, SC

Mandatory Source of Supply: Challenge Enterprises of North Florida, Inc., Green Cove Springs, FL

Contracting Activity: FEDERAL PRISON SYSTEM, TERMINAL ISLAND, FCI

Service Type: Dupli./Distri. Computer Output Microfilm

Mandatory for: Social Security Administration: Office of Acquisition and Grants, Baltimore, MD

Mandatory Source of Supply: Alliance, Inc., Baltimore, MD

Contracting Activity: SOCIAL SECURITY ADMINISTRATION, SOCIAL SECURITY ADMINISTRATION

Service Type: Administrative Services

Mandatory for: USDA Forest Products Laboratory: One Gifford Pinchot Dr., Madison, WI

Mandatory Source of Supply: Madison Area Rehabilitation Centers, Inc., Madison, WI

Contracting Activity: FOREST SERVICE, DEPT OF AGRIC/FOREST SERVICE

Service Type: Janitorial/Custodial

Mandatory for: Bombay Hook National Wildlife Refuge, Smyrna, DE

Mandatory Source of Supply: UNKNOWN,

Contracting Activity: OFFICE OF POLICY, MANAGEMENT, AND BUDGET, NBC ACQUISITION SERVICES DIVISION

Service Type: Custodial Services

Mandatory for: New York Air National Guard, Stewart Air National Guard Base, Newburgh, NY

Mandatory Source of Supply: Access: Supports for Living Inc., Middletown, NY

Contracting Activity: DEPT OF THE ARMY, W7NR USPFO ACTIVITY NY ARNG

Service Type: Base Operational Support

Mandatory for: Joint Base Andrews, Andrews AFB, MD

Mandatory Source of Supply: Davis Memorial Goodwill Industries, Washington, DC

Contracting Activity: DEPT OF THE AIR FORCE, FA4416 316 CONS LGC

Service Type: Administrative Services

Mandatory for: Fort Carson Army: SFCA-NR-CR, Fort Carson, CO

Mandatory Source of Supply: Bayaud Industries, Inc., Denver, CO

Contracting Activity: DEPT OF THE ARMY, W40M RHCO-ATLANTIC USAHCA

Service Type: Custodial & Grounds Maintenance

Mandatory for: US Army Reserve, SSG Reynolds J. King USARC, Ithaca, NY

Mandatory Source of Supply: NYSARC, Inc., Seneca-Cayuga Counties Chapter, Waterloo, NY

Contracting Activity: DEPT OF THE ARMY, W6QM MICC-FT DIX (RC-E)

Service Type: Janitorial/Custodial

Mandatory for: US Army Reserve, James W. Wadsworth USARC, Rochester, NY

Mandatory Source of Supply: Rochester Rehabilitation Center, Rochester, NY

Contracting Activity: DEPT OF THE ARMY, W6QK ACC-PICA

Service Type: Recycling Service

Mandatory for: Davis-Monthan Air Force Base, Tucson, AZ

Mandatory Source of Supply: Beacon Group, Inc., Tucson, AZ

Contracting Activity: VETERANS AFFAIRS, DEPARTMENT OF, NAC

Service Type: Supply and Warehousing Service

Mandatory for: 263rd Supply Support activity: 544th Maintenance Battalion, Fort Hood, TX

Mandatory for: 289th Quartermaster Co Class III, II & 14, Fort Hood, TX

Mandatory for: 289th Supply Support Activity Map Depot, 13th COSCOM, Fort Hood, TX

Mandatory for: 289th Supply Support Activity Weapons Warehouse: 13th COSCOM, Fort Hood, TX

Mandatory for: 565th Supply Support Activity: 544th Maintenance Battalion, Fort Hood, TX

Mandatory for: 602nd Supply Support Activity: 13th COSCOM, Fort Hood, TX

Mandatory for: 62nd Supply Support Activity Main, Fort Hood, TX

Mandatory for: A/204th Forward Support Battalion: 4th Infantry Division, Fort Hood, TX

Mandatory for: A/4th Forward Support Battalion: 4th Infantry Division, Fort Hood, TX

Mandatory for: A/404th Aviation Support Battalion: 4th Infantry Division, Fort Hood, TX

Mandatory for: A/615th Aviation Support Battalion: 1st Cavalry Division, Fort Hood, TX

Mandatory for: B/115th Forward Support Battalion, Fort Hood, TX

Mandatory for: B/15th Forward Support Battalion, Fort Hood, TX

Mandatory for: B/215th Forward Support Battalion, Fort Hood, TX

Mandatory Source of Supply: Professional Contract Services, Inc., Austin, TX

Mandatory for: E/704th Main Support Battalion: 4th Infantry Division, Fort Hood, TX

Mandatory for: Fort Hood: 565th Quartermaster Company, Fort Hood, TX

Mandatory for: Yard 26th III Corp Major End Items Class VII, Fort Hood, TX

Mandatory Source of Supply: Professional Contract Services, Inc., Austin, TX

Contracting Activity: DEPT OF THE ARMY, W6QM MICC-FDO FT HOOD

Service Type: Custodial Services

Mandatory for: Fort Custer Education Center, Augusta, MI

Mandatory Source of Supply: Navigations, Incorporated, Battle Creek, MI

Contracting Activity: DEPT OF THE ARMY, W7NF USPFO ACTIVITY MI ARNG

Service Type: Personal Environmental Protection & Survival Equip

Mandatory for: US Army, US Army REDCOM Acquisition Center, 3 Kansas Street, Natick, MA

Mandatory Source of Supply: Peckham Vocational Industries, Inc., Lansing, MI

Contracting Activity: DEPT OF THE ARMY, W6QK ACC-APG NATICK

Service Type: Janitorial/Custodial

Mandatory for: Maintenance Overhaul and Technical Service Center, Franklin Park, IL

Mandatory Source of Supply: Lester and Rosalie ANIXTER CENTER, Chicago, IL

Contracting Activity: U.S. Postal Service, Washington, DC

Service Type: Custodial Services

Mandatory for: 5A NYC Terminal Market: USDA, AMS F&V Division, Bronx, NY

Mandatory Source of Supply: The Corporate Source, Inc., Garden City, NY

Contracting Activity: ANIMAL AND PLANT HEALTH INSPECTION SERVICE, DEPT OF AGRIC/ANIMAL AND PLANT HLTH INSP SVC

Michael R. Jurkowski,
Deputy Director, Business & PL Operations.

[FR Doc. 2019-11959 Filed 6-6-19; 8:45 am]

BILLING CODE 6353-01-P